FEDERAL DEPOSIT INSURANCE CORPORATION

FDIC Advisory Committee on Community Banking; Notice of Charter Renewal

AGENCY: Federal Deposit Insurance Corporation (FDIC).

ACTION: Notice of renewal of the FDIC Advisory Committee on Community Banking.

SUMMARY: Pursuant to the provisions of the Federal Advisory Committee Act (FACA), and after consultation with the General Services Administration, the Chairman of the Federal Deposit Insurance Corporation has determined that renewal of the FDIC Advisory Committee on Community Banking (the Committee) is in the public interest in connection with the performance of duties imposed upon the FDIC by law.

FOR FURTHER INFORMATION CONTACT: Robert E. Feldman, Committee Management Officer of the FDIC, (202) 898-7043, Federal Deposit Insurance Corporation, 550 17th Street NW, Washington, DC 20429.

SUPPLEMENTARY INFORMATION: The Committee has been a successful undertaking by the FDIC and has provided valuable feedback to the agency on a broad range of policy issues that have particular impact on small community banks throughout the United States and the local communities they serve, with a focus on rural areas. The Committee will continue to review various issues that may include, but not be limited to, examination policies and procedures, credit and lending practices, deposit insurance assessments, insurance coverage, and regulatory compliance matters to promote the continued growth and ability of community banks to extend financial services in their respective local markets. The structure and responsibilities of the Committee are essentially unchanged from when it was originally established in July 2009. The Committee will continue to operate in accordance with the provisions of the FACA.

FOR FURTHER INFORMATION CONTACT: Mr. Robert E. Feldman, Committee Management Officer of the FDIC, at (202) 898-7043, regs@fdic.gov.

Dated at Washington, DC, on July 25, 2019.
Federal Deposit Insurance Corporation.
Robert E. Feldman,
Committee Management Officer.

[FR Doc. 2019-16136 Filed 7-29-19; 8:45 am]

BILLING CODE 6714-01-P